DEPARTMENT OF DEFENSE

Office of the Secretary

Defense Science Board

AGENCY: Department of Defense.

ACTION: Notice of Advisory Committee Meetings.

SUMMARY: The Defense Science Board Task Force on Defense Industrial Structure for Transformation will meet in closed session on October 10, 2006, at Science Applications International Corporation (SAIC), 4001 N. Fairfax Drive, Arlington, VA. This meeting will characterize the degree of change needed in industry due to the changing nature of DoD and the industrial Base. It will also examine the effectiveness of existing mitigation measures and make recommendations to ensure future competition and innovation throughout all tiers of the defense industrial base. The briefings will contain proprietary material and ensuing discussions will be at the collateral secret level.

The mission of the Defense Science Board is to advise the Secretary of Defense and the Under Secretary of Defense for Acquisition, Technology & Logistics on scientific and technical matters as they affect the perceived needs of the Department of Defense. At these meetings, the Defense Science Board Task Force will: Describe the defense industry required to cope with the international security environment in the 21st century. Additionally the task force will address the implications for the industrial base of increased DoD acquisition of services, as well as the implications for the financial viability of the defense industrial base as the sector adapts to changing DoD needs for defense-related products and services.

In accordance with Section 10(d) of the Federal Advisory Committee Act, Public Law 92-463, as amended (5 U.S.C. App. II), it has been determined that these Defense Science Board Task Force meetings concern matters listed in 5 U.S.C. 552b(c)(1) and that, accordingly, the meetings will be closed to the public.

FOR FURTHER INFORMATION CONTACT: MAJ Chad Lominac, USAF, Defense Science Board, 3140 Defense Pentagon, Room 3C553, Washington, DC 20301-3140, via Email at charles.lominac@osd.mil, or via phone at (703) 571-0081.

Dated: August 10, 2006.
L.M. Bynum,
OSD Federal Register Liaison Officer, Department of Defense.

[FR Doc. 06-6983 Filed 8-16-06; 8:45 am]

BILLING CODE 5001-06-M